FEDERAL COMMUNICATIONS COMMISSION

Radio Broadcasting Services; AM or FM Proposals To Change the Community of License

AGENCY: Federal Communications Commission.

ACTION: Notice.

SUMMARY: The following applicants filed AM or FM proposals to change the community of license: Agape Educational Media, Inc., Station WOWB, Facility ID 40428, BPED-20160329AER, From Brewton, AL, To Pace, FL; Chehalis Valley Educational Foundation, Station KACS, Facility ID 10685, BPED-20160314AAD, From Chehalis, WA, To Rainier, WA; Maria Elena Juarez, Station KRXR, Facility ID 2805, BP-20160217ABQ, From Gooding, ID, To Kuna, ID; Minerva R. Lopez, Station KOUL, Facility ID 28074, BPH-20160216ABP, From Benavides, TX, To Driscoll, TX; Radiojones, LLC, Station WXRS-FM, Facility ID 36212, BPH-20160315AAI, From Portal, GA, To Brooklet, GA Radiojones, LLC, Station WBMZ, Facility ID 73247, BPH-20160315AAU, From Metter, GA, To Portal, GA; RJ Broadcasting Ls, LLC, Station KIDJ, Facility ID 12665, BPH-20160229AAZ, From Rexburg, ID, To Sugar City, ID.

DATES: The agency must receive comments on or before June 21, 2016.

ADDRESSES: Federal Communications Commission, 445 12th Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://licensing.fcc.gov/prod/cdbs/pubacc/prod/cdbs_pa.htm.

Federal Communications Commission.
James D. Bradshaw,
Deputy Chief, Audio Division, Media Bureau.

[FR Doc. 2016-09371 Filed 4-21-16; 8:45 am]

BILLING CODE 6712-01-P